DEPARTMENT OF HEALTH AND HUMAN SERVICES

Administration for Children and Families

Submission for OMB Review; Comment Request

Title: Health Profession Opportunity Grants (HPOG) program.

OMB No.: 0970-0394.

Description: The Administration for Children and Families (ACF), U.S. Department of Health and Human Services (HHS) is proposing data collection activities as part of the Health Profession Opportunity Grants (HPOG) program. The proposed data collection activities described in this notice will provide data for the Impact Studies of the Health Profession Opportunity Grants (HPOG-Impact) and the National Implementation Evaluation of the Health Profession Opportunity Grants to Serve TANF Recipients and Other Low-Income Individuals (HPOG-NIE).

The goal of HPOG-Impact is to evaluate the effectiveness of approaches used by 20 of the HPOG grantees to provide TANF recipients and other low‐income individuals with opportunities for education, training and advancement within the health care field. HPOG-Impact also is intended to evaluate variation in participant impact that may be attributable to different HPOG program components and models. The impact study design is a classic experiment in which eligible applicants will be randomly assigned to a treatment group that is offered participation in HPOG and a control group that is not permitted to enroll in HPOG. In a subset of sites, eligible applicants will be randomized into two treatment arms (a basic and an enhanced version of the intervention) and a control group.

The goal of HPOG-NIE is to describe and assess the implementation, systems change, and outcomes and other important information about the operations of the 27 HPOG grantees focused on TANF recipients and other low-income individuals. To achieve these goals, it is necessary to collect information about the composition and intensity of services received, participant characteristics and HPOG experiences, and participant outputs and outcomes.

HPOG-Impact and HPOG-NIE are two projects within the broader portfolio of research that OPRE is utilizing to assess the success of the career pathways programs and models. This strategy includes a multi-pronged research and evaluation approach for the HPOG program to better understand and assess the activities conducted and their results as well as the Innovative Strategies for Improving Self-Sufficiency (ISIS) project. In order to maximize learning across the portfolio, survey development for the HPOG and ISIS baseline and follow up surveys is being coordinated, and the majority of the data elements collected in these surveys are similar.

Three data collection efforts related to HPOG research were approved by OMB, including approval of a Performance Reporting System (PRS) (approved September 2011), for collection of additional baseline data for the HPOG-Impact study (approved October 2012), and for collection of data for the National Implementation Evaluation (approved August 2013). Additionally, two data collection efforts for ISIS were approved (November 2011 and August 2013), and a new request is being submitted at the same time as this request (under OMB #0970-0397).

This Federal Register Notice provides the opportunity to comment on proposed new information collection activities for HPOG-Impact and HPOG-NIE: (1) The HPOG-Impact second follow-up survey (at 36 months post-random assignment) of both treatment and control group members. The purpose of the HPOG-Impact 36 month follow-up survey is to follow-up with study participants to document their education and training experiences, employment experiences, and parenting practices and child outcomes for participants with children. (2) A HPOG-NIE screening questionnaire and semi-structured discussion guide for use in interviews with grantees about their use of performance measurement information.

Data collection activities to submit in a future information collection request include: A third follow-up survey for HPOG-Impact study participants approximately 60 months after study enrollment.

Previously approved collection activities under 0970-0394 will continue this new request, including additional data collection using the following previously approved instruments: The Performance Reporting System (PRS); the HPOG-Impact 15-month follow-up survey of treatment and control group members; and the HPOG-NIE 15-month Participant Follow-Up survey.

Respondents: Individuals enrolled in HPOG interventions and control group members; HPOG program managers and staff.

Annual Burden Estimates

Estimated Total Annual Burden Hours:

[This information collection request is for a three-year period.]

Instrument | Total number of respondents | Annual number of respondents | Number of responses per respondent | Average burden hours per response | Annual burden hours
Previously Approved Instruments
PRS | 32 | 11 | 4 | 31.2 | 1,373
HPOG-Impact 15-month Participant Follow-Up survey | 5,600 | 1,867 | 1 | 0.7 | 1,307
HPOG-Impact 15-month Control Group Member Follow-Up survey | 2,800 | 933 | 1 | 0.6 | 560
HPOG-NIE 15-month Participant Follow-Up survey | 600 | 200 | 1 | 0.7 | 140
Current Request for Approval
HPOG-Impact 36-month Participant Follow-Up survey | 5,808 | 11,936 | 1 | 1 | 1,936
HPOG-Impact 36-month Control Group Member Follow-Up survey | 2,898 | 966 | 1 | 1 | 966
HPOG-NIE Performance Measurement Screening Questionnaire | 39 | 13 | 1 | .2 | 3
HPOG-NIE Performance Measurement Semi-Structured Discussion Guide | 20 | 7 | 1 | 1 | 7

Estimated Annual Response Burden Hours: 6292.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Karl Koerper,
Reports Clearance Officer.

[FR Doc. 2014-20351 Filed 8-26-14; 8:45 am]

BILLING CODE 4184-09-P